DEPARTMENT OF THE INTERIOR

Bureau of Reclamation

Notice of Intent To Prepare an Environmental Impact Statement and Announcement of Public Scoping Meetings for Continued Operation of the Paradox Valley Unit, Montrose County, CO

AGENCY: Bureau of Reclamation, Interior.

ACTION: Notice of intent.

SUMMARY: Pursuant to the National Environmental Policy Act of 1969, as amended, the Bureau of Reclamation intends to prepare an environmental impact statement to identify and evaluate brine disposal alternatives to replace or supplement the existing Brine Injection Well No. 1 which has a projected remaining useful life of three to five years under current operations.

DATES: Comments on the scope of the environmental impact statement (EIS) will be accepted from September 10, 2012, to November 26, 2012.

Three public scoping meetings will be held to solicit public input on the scope of the EIS, potential alternatives, and issues to be addressed in the EIS. See the SUPPLEMENTARY INFORMATION section for meeting dates.

ADDRESSES: Written comments regarding the scope and content of the EIS should be sent to Mr. Terence Stroh, Bureau of Reclamation, Western Colorado Area Office, 2764 Compass Drive, Suite 106, Grand Junction, Colorado 81506; telephone (970) 248-0608; facsimile (970) 248-0601; or email at paradoxeis@usbr.gov.

Those not desiring to submit comments or suggestions at this time, but who would like to receive a copy of the EIS, should contact Mr. Stroh using the information cited above. See the SUPPLEMENTARY INFORMATION section for locations of public scoping meetings.

FOR FURTHER INFORMATION CONTACT: Mr. Terence Stroh, Bureau of Reclamation, 2764 Compass Drive, Suite 106, Grand Junction, Colorado 81506; telephone (970) 248-0608; email at TStroh@usbr.gov; or Mr. Andy Nicholas, Bureau of Reclamation, Paradox Valley Field Office, P.O. Box 20, Bedrock, Colorado 81411; telephone (970) 859-7214; email at ANicholas@usbr.gov; or Mr. Kib Jacobson, Bureau of Reclamation, 125 South State Street, Room 6107, Salt Lake City, Utah 84138; telephone (801) 524-3753; email at KJacobson@usbr.gov.

Persons who use a telecommunications device for the deaf may call the Federal Information Relay Service (FIRS) at 1-800-877-8339 to contact the above individual(s) during normal business hours. The FIRS is available 24 hours a day, 7 days a week, to leave a message or question with the above individual(s). You will receive a reply during normal business hours.

SUPPLEMENTARY INFORMATION: The Paradox Valley Unit was constructed to assist in meeting the objectives and standards of the Federal Water Pollution Control Act of 1948 (Pub. L. 80-845) and the Colorado River Basin Salinity Control Act of 1974, as amended and supplemented (Pub. L. 93-320), which authorizes the construction, operation, and maintenance of works in the Colorado River Basin to control the salinity of water delivered to users in the United States and Mexico. Authorized facilities included wells, pumps, pipelines, solar evaporation ponds, and all necessary appurtenant and associated works such as roads, fences, dikes, power transmission facilities, and permanent operating facilities.

Background

The Paradox Valley Unit is located along the Dolores River in the Paradox Valley in Montrose County, Colorado, about ten miles east of the Colorado-Utah state line. The Dolores River is a major tributary to the Colorado River. Groundwater in the Paradox Valley is highly saline. Saline concentrations in this area have been measured in excess of 250,000 milligrams per liter; by far one of the most concentrated sources in the Colorado River Basin. Groundwater then surfaces into the Dolores River. Studies show that the Dolores River accumulated more than 205,000 tons of salt annually before the Paradox Valley Unit began operation.

The Paradox Valley Unit presently consists of a brine collection well field, brine surface treatment facility, brine injection facility, a 16,000-foot injection well, and associated roads, pipelines, and electrical facilities. Unit operations have been adjusted over time to address increased seismic activity and injection pressures. Under normal operations, the Paradox Valley Unit averages injection of about nine to ten million gallons of brine per month. The Unit currently controls about 110,000 tons of salt per year that would have entered the Dolores River and, in turn, degraded the water quality of the mainstem of the Colorado River.

Proposed Action

The proposed action is to identify, evaluate, and implement brine disposal alternatives to replace or supplement Brine Injection Well No. 1 which was built in 1988 and has a projected remaining useful life of three to five years, under current operations, provided that acceptable seismicity levels and well integrity are maintained.

Need for Action

The Bureau of Reclamation's Paradox Valley Unit is one of the most effective salinity control projects in the Colorado River Basin and provides about ten percent of the total salinity control in the Colorado River at Imperial Dam. Because the existing brine injection well is nearing the end of its useful life, another well or alternative brine disposal mechanism is needed for continued enhancement and protection of the quality of water available in the Colorado River for use in the United States and the Republic of Mexico, and to enable the United States to comply with its obligations under the agreement with Mexico of August 30, 1973.

Scoping Information

This notice of intent initiates the scoping process which guides the development of the environmental impact statement. Scoping is an early and public process for determining concerns to be addressed and for identifying significant issues and suggested alternatives related to the proposed action. In addition to oral comments provided at the scoping meetings, Reclamation also invites written comments during the scoping period. To be most effectively considered, written comments should be received no later than November 26, 2012.

When the EIS is complete, its availability will be announced in the Federal Register, in the local news media, through direct contact with interested parties, and on the project Web site. Comments will be solicited on the document at that time.

If special assistance is required to participate in the public scoping meetings, please contact Ms. Justyn Hock at 970-248-0625 or email at JHock@usbr.gov. Please notify Ms. Hock as far in advance as possible to enable Reclamation to secure the needed services. If a request cannot be honored, the requestor will be notified.

Dates and Addresses of Public Scoping Meetings

The scoping meeting dates and addresses are:

• Tuesday, September 25, 2012, 6:00 to 8:00 p.m., Paradox Valley School, 21501 6 Mile Road, Paradox, Colorado 81429.

• Wednesday, September 26, 2012, 7:00 to 9:00 p.m., Holiday Inn Express, 1391 South Townsend Avenue, Montrose, Colorado, 81401.

• Thursday, September 27, 2012, 7:00 to 9:00 p.m., Colorado Mesa University, University Center—Room 221, 1100 North Avenue, Grand Junction, Colorado 81501-3122.

Public Disclosure

Before including your address, phone number, email address, or other personal identifying information in your comment, you should be aware that your entire comment—including your personal identifying information—may be made publicly available at any time. While you can ask us in your comment to withhold your personal identifying information from public review, we cannot guarantee that we will be able to do so.

Dated: July 17, 2012.
Larry Walkoviak,
Regional Director—Upper Colorado Region, Bureau of Reclamation.

[FR Doc. 2012-22176 Filed 9-7-12; 8:45 am]

BILLING CODE 4310-MN-P